DEPARTMENT OF VETERANS AFFAIRS

[OMB Control No. 2900-0068]

Proposed Information Collection (Application for Service-Disabled Veterans Insurance); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to this notice. This notice solicits comments for information needed to determine a claimant's eligibility for service disabled insurance.

DATES: Written comments and recommendations on the proposed collection of information should be received on or before June 20, 2008.

ADDRESSES: Submit written comments on the collection of information through http://www.Regulations.gov; or to Nancy J. Kessinger, Veterans Benefits Administration (20M35), Department of Veterans Affairs, 810 Vermont Avenue, NW., Washington, DC 20420 or e-mail nancy.kessinger@va.gov. Please refer to OMB Control No. 2900-0068 in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Public Law 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Application for Service-Disabled Veterans Insurance, VA Form 29-4364 and VA Form 29-0151.

OMB Control Number: 2900-0068.

Type of Review: Extension of a currently approved collection.

Abstract: Claimants complete VA Forms 29-4364 and 29-0151 to apply for service-disabled veterans insurance, designate a beneficiary and to select an optional settlement. VA uses the data collected to determine the claimant's eligibility for insurance.

Affected Public: Individuals or households.

Estimated Annual Burden: 2,833 hours.

Estimated Average Burden per Respondent: 40 minutes.

Frequency of Response: On occasion.

Estimated Number of Respondents: 4,250.

Dated: April 11, 2008.
By direction of the Secretary:
Denise McLamb,
Program Analyst, Records Management Service.

[FR Doc. E8-8537 Filed 4-18-08; 8:45 am]

BILLING CODE 8320-01-P